DEPARTMENT OF VETERANS AFFAIRS

Privacy Act of 1974; System of Records

AGENCY: Department of Veterans Affairs (VA).

ACTION: Notice of amendment to system of records.

SUMMARY: As required by the Privacy Act of 1974, 5 U.S.C. 552a(e), notice is hereby given that the Department of Veteran Affairs (VA) is amending the system of records currently entitled “Voluntary Service Records—VA” (57VA135) as set forth in the Federal Register 74 FR 17555. VA is amending the system of records by revising the System Number, System Location, Purpose, Categories of Records in the System, Records Source Categories, Routine Uses of Records Maintained in the System, Policies and Practices for Storage of Records, Policies and Practices for Retrievability of Records, Safeguards, System Manager(s) and Address, and Notification Procedure. VA is republishing the system notice in its entirety.

DATES: Comments on this new system of records must be received no later than September 28, 2016. If no public comment is received during the period allowed for comment or unless otherwise published in the Federal Register by VA, the new system will become effective September 28, 2016.

ADDRESSES: Written comments concerning the amended system of records may be submitted through www.regulations.gov; by mail or hand-delivery to Director, Regulations Management (02REG), Department of Veterans Affairs, 810 Vermont Avenue NW., Room 1068, Washington, DC 20420; or by fax to (202) 273-9026. All comments received will be available for public inspection in the Office of Regulation Policy and Management, Room 1063B, between the hours of 8:00 a.m. and 4:30 p.m., Monday through Friday (except holidays). Please call (202) 461-4902 (this is not a toll free number) for an appointment. In addition, during the comment period, comments may be viewed online through the Federal Docket Management System at www.regulations.gov.

FOR FURTHER INFORMATION CONTACT: Sabrina C. Clark, Director, Voluntary Service Office (10B2A), Department of Veterans Affairs, 810 Vermont Avenue NW., Washington, DC 20420. Veterans Health Administration (VHA), Privacy Officer, Department of Veterans Affairs, 810 Vermont Ave NW., Washington, DC 20420, (704) 245-2492.

SUPPLEMENTARY INFORMATION: The System Number is changed from 57VA135 to 57VA10B2A to reflect the current organizational alignment.

The System Location has been amended to remove “VSS is a web-based volunteer timekeeping package currently housed on Webservers at Silver Spring, MD.” The new language will state that VSS is a web-based volunteer timekeeping package currently housed on Webservers located at the Capital Region Readiness Center, 221 Butler Avenue, Building 511, Martinsburg, West Virginia 25405.

The Purpose is being amended to remove student volunteer.

The Categories of Records in the System is being amended to add: “Administrative records containing personal information such as name, address, phone number, email address, date of birth, and volunteer date in a VA health care facility, VA regional office, or VA cemetery, which is provided by the volunteer on VA Form 10-7055, `Application for Voluntary Service'.”

The Records Source Categories is being amended to change 24VA136 to 24VA10P2.

The Routine Uses of Records Maintained in the System has been amended to delete the first routine use as it was duplicative of number 2. The numbering was corrected upon the removal of the duplicate routine use.

The Policies and Practices for Storage of Records and Safeguards sections are being amended to remove Silver Spring, Maryland, and replace it with Martinsburg, West Virginia.

The Policies and Practices for Retrievability of Records section is being amended to include names under section (a). Section (b) will include, “but are not retrievable through VSS.”

The System Manager(s) and Address section is being amended to change the official maintaining the system from dNovus Contractor, Jay Singh, VHA Oakland OIFO, 1301 Clay Street, Suite 1350N, Oakland, CA 94612 to Technatomy Contractor, Jay Singh, VHA Oakland Office of Information Field Office (OIFO), 1301 Clay Street, Suite 1350N, Oakland, California 94612.

The Notification Procedure section is being amended to state “submit a written request to the Director, Voluntary Service Office (10B2A), Department of Veterans Affairs, 810 Vermont Avenue NW., Washington, DC 20420 or email VHACO10B2AStaff@va.gov or inquire in person at the VA health care facility where their voluntary service was accomplished.”

The Report of Intent to Amend a System of Records Notice and an advance copy of the system notice have been sent to the appropriate Congressional committees and to the Director of the Office of Management and Budget (OMB) as required by 5 U.S.C. 552a(r) (Privacy Act) and guidelines issued by OMB (65 FR 77677), December 12, 2000.

Signing Authority: The Secretary of Veterans Affairs, or designee, approved this document and authorized the undersigned to sign and submit the document to the Office of the Federal Register for publication electronically as an official document of the Department of Veterans Affairs. Gina S. Farrisee, Deputy Chief of Staff, approved this document, August 5, 2016, for publication.

Dated: August 10, 2016.
Kathleen M. Manwell,
Program Analyst, VA Privacy Service, Office of Privacy and Records Management, Department of Veterans Affairs.

57VA10B2A

SYSTEM NAME:

Voluntary Service Records—VA

SYSTEM LOCATION:

Records are maintained at each of the VA health care facilities and in the Voluntary Service System (VSS). Active records are retained at the facility where the individual has volunteered to assist the administrative and professional personnel and in the VSS. Basic information for all inactive records is retained at the facility where the volunteer worked and in the VSS. VSS is a web-based volunteer timekeeping package currently housed on Webservers located at the Capital Region Readiness Center, 221 Butler Avenue, Building 511, Martinsburg, West Virginia 25405.

AUTHORITY FOR MAINTENANCE OF THE SYSTEM:

Title 38, United States Code, Section 513.

PURPOSE(S):

The records and information are used for tracking the number of regularly-scheduled volunteers and occasional volunteers to produce statistical and managerial reports on the number of hours and visits of all volunteers each month, and to present volunteers with certificates of appreciation for service.

CATEGORIES OF INDIVIDUALS COVERED BY THE SYSTEM:

All volunteers, regularly-scheduled and occasional, including non-affiliated and members of voluntary service organizations; welfare, service, veterans, fraternal, religious, civic, industrial, labor, and social groups or clubs, which voluntarily offer the services of their organizations and/or individuals to assist with the provision of care to patients, either directly or indirectly, through VA Voluntary Service under Title 38, United States Code, Section 513.

CATEGORIES OF RECORDS IN THE SYSTEM:

Administrative records containing personal information such as name, address, phone number, email address, date of birth, and volunteer date in a VA health care facility, VA regional office, or VA cemetery is provided by the volunteer on VA Form 10-7055, “Application for Voluntary Service”. Information relating to the individual membership in service organizations, qualifications, restrictions and preferences of duty and availability to schedule time of service. Training records pertaining to the volunteer's service will also be maintained for all active volunteers at the facility where the volunteer works. Medical records of active volunteers will be maintained in the facility's Employee Health office. Fingerprint and background investigation records will be maintained by the local facility's office that handles those investigations.

RECORD SOURCE CATEGORIES:

Information in this system of records may be provided by the volunteer, his/her family, civic and service organization, “Patient Medical Records—VA” (24VA10P2) system of records, and Voluntary Service at the VA health care facility where the volunteer worked.

ROUTINE USES OF RECORDS MAINTAINED IN THE SYSTEM, INCLUDING CATEGORIES OF USERS AND THE PURPOSES OF SUCH USES:

To the extent that records contained in the system include information protected by 45 CFR parts 160 and 164 (i.e., individually identifiable health information), and 38 U.S.C. 7332 (i.e., medical treatment information related to drug abuse, alcoholism or alcohol abuse, sickle cell anemia or infection with the human immunodeficiency virus), that information cannot be disclosed under a routine use unless there is also specific statutory authority in 38 U.S.C. 7332 and regulatory authority in 45 CFR parts 160 and 164 permitting disclosure.

1. VA may disclose on its own initiative any information in this system, except the names and home addresses of Veterans and their family members or caregivers which is relevant to a suspected or reasonably imminent violation of law, whether civil, criminal or regulatory in nature, and whether arising by general or program statute or by regulation, rule or order issued pursuant thereto, to a Federal, State, local, Tribal, or foreign agency charged with the responsibility of investigating or prosecuting such violation, or charged with enforcing or implementing the statute, regulation, rule or order. On its own initiative, VA may also disclose the names and addresses of Veterans, their family members or caregivers to a Federal agency charged with the responsibility of investigating or prosecuting civil, criminal or regulatory violations of law, or charged with enforcing or implementing the statute, regulation, rule or order issued pursuant thereto.

2. The name and address of a Veteran, which is relevant to a suspected violation or reasonably imminent violation of law concerning public health or safety, whether civil, criminal or regulatory in nature and whether arising by general or program statute or by regulation, rule or order issued pursuant thereto, may be disclosed to any foreign, State or local governmental agency or instrumentality charged under applicable law with the protection of the public health or safety if a qualified representative of such organization, agency or instrumentality has made a written request that such name and address be provided for a purpose authorized by law.

3. Volunteer records may be used to confirm volunteer service, duty schedule, and assignments to service organizations, Bureau of Unemployment, insurance firms, office of personnel of the individual's fulltime employment; to assist in the development of VA history of the volunteer and his/her assignments; and to confirm voluntary hours for on-the job accidents, and for recognition awards.

4. Disclosure may be made to a congressional office from the record of an individual in response to an inquiry from the congressional office made at the request of that individual.

5. Disclosure may be made to the National Archives and Records Administration and to General Services Administration in records management inspections conducted under authority of 44 U.S.C.

6. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

7. Relevant information may be disclosed to individuals, organizations, private or public agencies, etc., with whom VA has a contract or agreement to perform such services as VA may deem practicable for the purposes of laws administered by VA, in order for the contractor or subcontractor to perform the services of the contract or agreement. VA occasionally contracts out certain of its functions when this would contribute to effective and efficient operations.

8. Disclosure to other Federal agencies may be made to assist such agencies in preventing and detecting possible fraud or abuse by individuals in their operations and programs.

9. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency) that rely upon the compromised information; and (3) the disclosure is to agencies, entities, or persons whom VA determines are reasonably necessary to assist or carry out the Department's efforts to respond to the suspected or confirmed compromise, and prevent, minimize, or remedy such harm. This routine use permits disclosures by the Department to respond to a suspected or confirmed data breach, including the conduct of any risk analysis or provision of credit protection services as provided in 38 U.S.C. 5724.

POLICIES AND PRACTICES FOR STORAGE OF RECORDS:

Digital information of all active volunteers is maintained in Martinsburg, West Virginia, on secured Webservers. Paper documents for all active volunteers are maintained in locked file cabinets at the individual VA facilities where the volunteer has donated time. Computer files containing basic information, such as name, address, date of birth, volunteer assignments, hours/years volunteered, and award information are retained for all volunteers, either active or inactive, at the VA facility where the volunteer worked.

POLICIES AND PRACTICES FOR RETRIEVABILITY OF RECORDS:

(a) All volunteer records are filed by name and unique identification numbers within the VA's VSS, and are cross-referenced under the organization(s) they represent.

(b) Health records are stored by name and Social Security number in the VISTA patient files, but are not retrievable through VSS.

POLICIES AND PRACTICES FOR RETENTION AND DISPOSAL OF RECORDS:

1. The individual volunteer's record of service is maintained by the VA health care facility, as long as he or she is living and actively participating in the VAVS program. VSS maintains minimum information on all volunteers indefinitely. These minimum records include the volunteer's name, address, date of birth, telephone number, next of kin information, assignments worked, hours and years of service, and last award received.

2. Depending on the record medium, records are destroyed by either shredding or degaussing. Summary reports and other output reports are destroyed when no longer needed for current operation. Regardless of record medium, no records will be retired to a Federal records center.

PHYSICAL, PROCEDURAL, AND ADMINISTRATIVE SAFEGUARDS:

1. Access to VA working space and medical record storage areas and the Web-servers in Martinsburg, West Virginia, is restricted to VA employees on a “need to know” basis. Generally, VA file areas are locked after normal duty hours and are protected from outside access by the Federal Protective Service. Volunteer file records of sensitive medical record files are stored in separate locked files.

2. Strict control measures are enforced to ensure that access to and disclosure from all records including electronic files and volunteer specific data elements stored in the VSS are limited to VA Voluntary Service (VAVS) employees whose official duties warrant access to those files. The automated record system recognizes authorized users by keyboard entry of a series of unique passwords. Once the employee is logged onto the system, access to files is controlled by discreet menus, which are assigned by the VSS package local system administrator based upon the employee's demonstrated need to access the data to perform the employee's assigned duties. A number of other security measures are implemented to enhance security of electronic records (automatic timeout after short period of inactivity, device locking after pre-set number of invalid logon attempts, etc.). Employees are required to sign a user access agreement acknowledging their knowledge of confidentiality requirements, and all employees receive annual training on information security. Access is deactivated when no longer required for official duties. Recurring monitors are in place to ensure compliance with nationally and locally established security measures.

3. Online data resides on VSS Webservers in Martinsburg, West Virginia, that are highly secured.

4. Any sensitive information that may be downloaded or printed to hard copy format is provided the same level of security as the electronic records. All paper documents and informal notations containing sensitive data are shredded prior to disposal.

5. All new VAVS employees receive initial information security training, and refresher training is provided to all employees on an annual basis.

SYSTEM MANAGER(S):

Official responsible for policies and procedures: Director, Voluntary Service Office (10B2A), Department of Veterans Affairs, 810 Vermont Avenue NW., Washington, DC 20420. Official maintaining the system: Technatomy Contractor, Jay Singh, VHA Oakland OIFO, 1301 Clay Street, Suite 1350N, Oakland, California 94612.

RECORD ACCESS PROCEDURE:

Volunteers, dependents, survivors or duly authorized representatives seeking information regarding access to and contesting of VAVS records may contact the Voluntary Service office at the VA health care facility where the individual served as a volunteer.

CONTESTING RECORD PROCEDURES:

(See Record Access Procedures above.)

NOTIFICATION PROCEDURE:

Individuals seeking information concerning the existence and content of their service records must submit a written request to Director, Voluntary Service Office (10B2A), Department of Veterans Affairs, 810 Vermont Avenue NW., Washington, DC 20420 or email VHACO10B2AStaff@va.gov or inquire in person at the VA health care facility where their voluntary service was accomplished. All inquiries must reasonably identify, to the VA facility, the portion of the volunteer's service record they want information about and the approximate dates of service, in order to receive that information. Inquiries should include the volunteer's name, organization represented, date of birth, and last address while serving as a volunteer to the VA.

EXEMPTIONS PROMULGATED FOR THE SYSTEM:

None.

[FR Doc. 2016-20606 Filed 8-26-16; 8:45 am]

BILLING CODE 8320-01-P